DEPARTMENT OF HEALTH AND HUMAN SERVICES

Food and Drug Administration

21 CFR Part 878

[Docket No. FDA-2006-N-0045; Formerly Docket No. 2006N-0109]

Medical Devices; Reclassification of the Topical Oxygen Chamber for Extremities; Correction

AGENCY: Food and Drug Administration, HHS.

ACTION: Final rule; correction.

SUMMARY: The Food and Drug Administration (FDA) is correcting a final rule that appeared in the Federal Register of April 25, 2011 (76 FR 22805). The document announced that FDA is reclassifying the topical oxygen chamber for extremities (TOCE) from class III to class II. The document published inadvertently used outdated contact information. This document corrects that error.

DATES: Effective May 25, 2011.

FOR FURTHER INFORMATION CONTACT: Charles N. Durfor, Center for Devices and Radiological Health, Food and Drug Administration, 10903 New Hampshire Ave., Bldg. 66, Rm. G424, Silver Spring, MD 20993-0002, 301-796-6438.

SUPPLEMENTARY INFORMATION: In FR Doc. 2011-9899 appearing on page 22805 in the Federal Register of Monday, April 25, 2011, the following correction is made: 1. On page 22805, in the third column, the FOR FURTHER INFORMATION CONTACT section is corrected to read as follows:

FOR FURTHER INFORMATION CONTACT: Charles N. Durfor, Center for Devices and Radiological Health, Food and Drug Administration, Bldg. 66, Rm. G424, 10903 New Hampshire Ave., Silver Spring, MD 20993-0002, 301-796-6438.

Dated: May 17, 2011.
Nancy K. Stade,
Deputy Director for Policy, Center for Devices and Radiological Health.

[FR Doc. 2011-12410 Filed 5-19-11; 8:45 am]

BILLING CODE 4160-01-P